DEPARTMENT OF ENERGY

Federal Energy Regulatory Commission

Combined Notice of Filings #1

January 11, 2006.

Take notice that the Commission received the following electric rate filings:

Docket Numbers: ER05-1506-001.

Applicants: American Transmission Co., LLC; Midwest Independent Transmission System Operator, Inc.

Description: American Transmission Co., LLC et al submits Third Revised Sheet Nos. 1346 and 1346-A to FERC Electric Tariff, Third Revised Volume No. 1 in compliance with FERC's order dated December 20, 2005.

Filed Date: January 4, 2006.

Accession Number: 20060105-0146.

Comment Date: 5 p.m. Eastern Time on Wednesday, January 25, 2006.

Docket Numbers: ER06-17-001.

Applicants: Participating Transmission Owners.

Description: Participating Transmission Owners correct error in October 7, 2005 filing proposing to modify ISO-NE's OATT.

Filed Date: January 4, 2006.

Accession Number: 20060105-0149.

Comment Date: 5 p.m. Eastern Time on Wednesday, January 25, 2006.

Docket Numbers: ER06-120-001.

Applicants: Duke Energy Corporation.

Description: Duke Energy Corp.'s response to FERC's December 21, 2005 Data Request regarding the Catawba Nuclear Station Joint Ownership Support Agreement etc. with Piedmont Municipal Power Agency.

Filed Date: January 4, 2006.

Accession Number: 20060105-0067.

Comment Date: 5 p.m. Eastern Time on Wednesday, January 25, 2006.

Docket Numbers: ER06-446-000.

Applicants: Connecticut Light & Power Company.

Description: Northeast Utilities Service Co. on behalf of Connecticut Light and Power Co. et al. submits a notice of termination to the Dispatchable System Power Sales Agreement with Sterling Municipal Light Department.

Filed Date: January 3, 2006.

Accession Number: 20060105-0132.

Comment Date: 5 p.m. Eastern Time on Tuesday, January 24, 2006.

Docket Numbers: ER06-447-000.

Applicants: Southwest Power Pool, Inc.

Description: Southwest Power Pool, Inc. submits an executed Amended & Restated Interconnection Agreement with SPP, Public Service Co. of Oklahoma & Western Farmer Electric Cooperative, designated Service Agreement No. 1160.

Filed Date: January 3, 2006.

Accession Number: 20060105-0133.

Comment Date: 5 p.m. Eastern Time on Tuesday, January 24, 2006.

Docket Numbers: ER06-448-000.

Applicants: Southwest Power Pool, Inc.

Description: Southwest Power Pool, Inc. submits unexecuted service agreement for Network Integration Transmission Service between SPP & Oklahoma Municipal Power Authority.

Filed Date: January 3, 2006.

Accession Number: 20060105-0106.

Comment Date: 5 p.m. Eastern Time on Tuesday, January 24, 2006.

Docket Numbers: ER06-449-000.

Applicants: Florida Power Corporation.

Description: Florida Power Corp. amends Exhibit A of the Revised Contract for Interchange Service w/Orlando Utilities Commission.

Filed Date: January 3, 2006.

Accession Number: 20060105-0061.

Comment Date: 5 p.m. Eastern Time on Tuesday, January 24, 2006.

Docket Numbers: ER06-450-000.

Applicants: Midwest Independent Transmission System Operator, Inc.

Description: Midwest Independent Transmission System Operator, Inc. submits revisions to their Open Access Transmission & Energy Markets Tariff, FERC Electric Tariff, Third Revised Volume No. 1.

Filed Date: January 4, 2006.

Accession Number: 20060105-0150.

Comment Date: 5 p.m. Eastern Time on Wednesday, January 25, 2006.

Docket Numbers: ER06-451-000.

Applicants: Southwest Power Pool, Inc.

Description: Southwest Power Pool, Inc. submits proposed changes to its Open Access Transmission Tariff to implement a real-time energy imbalance market.

Filed Date: January 4, 2006.

Accession Number: 20060105-0066.

Comment Date: 5 p.m. Eastern Time on Wednesday, January 25, 2006.

Docket Numbers: ER06-452-000.

Applicants: East Central Area Reliability Council.

Description: East Central Area Reliability Council, on behalf of its members Allegheny Power et al. submits its Notice of Cancellation of its Inadvertent Settlement Tariff with a requested effective date of January 1, 2006.

Filed Date: January 4, 2006.

Accession Number: 20060109-0100.

Comment Date: 5 p.m. Eastern Time on Wednesday, January 25, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-559 Filed 1-18-06; 8:45 am]

BILLING CODE 6717-01-P